DEPARTMENT OF COMMERCE

National Oceanic and Atmospheric Administration

50 CFR Part 660

[Docket No. 040628196-5130-02; I.D. 061704A]

RIN 0648-AQ92

Fisheries Off West Coast States and in the Western Pacific; Western Pacific Pelagic Fisheries; American Samoa Longline Limited Entry Program; Correction

AGENCY: National Marine Fisheries Service (NMFS), National Oceanic and Atmospheric Administration (NOAA), Commerce.

ACTION: Final rule; corrections.

SUMMARY: This document contains corrections to a final rule that was published on May 24, 2005.

DATES: Effective August 1, 2005.

FOR FURTHER INFORMATION CONTACT: Alvin Z. Katekaru, Pacific Islands Area Office, NMFS, 808-973-2937.

SUPPLEMENTARY INFORMATION: The final rule for Amendment 11 was published in the Federal Register on May 24, 2005, (70 FR 29646). In § 660.36, paragraph designate (f)(4) was incorrect. This document corrects this oversight.

Correction

In the rule FR Doc. 05-10351, in the issue of Tuesday, May 24, 2005 (70 FR 29646), make the following corrections:

§ 660.36 [Corrected]

1. On page 29655, in the third column, in paragraph (f)(3), line 25, indent “(4)” to correctly designate paragraph (f)(4).

2. On page 29655, in the third column, the final paragraph (f)(4) is correctly designated as paragraph (f)(5).

Dated: June 1, 2005.
Rebecca Lent,
Deputy Assistant Administrator for Regulatory Programs, National Marine Fisheries Service.

[FR Doc. 05-11292 Filed 6-8-05; 8:45 am]

BILLING CODE 3510-22-S